DEPARTMENT OF THE INTERIOR

National Park Service

[NPS-WASO-NAGPRA-NPS0033968; PPWOCRADN0-PCU00RP14.R50000]

Notice of Inventory Completion: Gilcrease Museum, Tulsa, OK

AGENCY: National Park Service, Interior.

ACTION: Notice.

SUMMARY: The Gilcrease Museum has completed an inventory of associated funerary objects, in consultation with the appropriate Indian Tribes or Native Hawaiian organizations, and has determined that there is a cultural affiliation between an associated funerary object and present-day Indian Tribes or Native Hawaiian organizations. Lineal descendants or representatives of any Indian Tribe or Native Hawaiian organization not identified in this notice that wish to request transfer of control of this associated funerary object should submit a written request to the Gilcrease Museum. If no additional requestors come forward, transfer of control of the associated funerary object to the lineal descendants, Indian Tribes, or Native Hawaiian organizations stated in this notice may proceed.

DATES: Lineal descendants or representatives of any Indian Tribe or Native Hawaiian organization not identified in this notice that wish to request transfer of control of this associated funerary object should submit a written request with information in support of the request to the Gilcrease Museum at the address in this notice by June 30, 2022.

FOR FURTHER INFORMATION CONTACT: Laura Bryant, Gilcrease Museum, 800 S Tucker Drive, Tulsa, OK 74104, telephone (918) 596-2747, email laura-bryant@utulsa.edu.

SUPPLEMENTARY INFORMATION: Notice is here given in accordance with the Native American Graves Protection and Repatriation Act (NAGPRA), 25 U.S.C. 3003, of the completion of an inventory of associated funerary objects under the control of the Gilcrease Museum, Tulsa, OK. The associated funerary object listed in this notice was removed from Moundville, Greene County, AL.

This notice is published as part of the National Park Service's administrative responsibilities under NAGPRA, 25 U.S.C. 3003(d)(3). The determinations in this notice are the sole responsibility of the museum, institution, or Federal agency that has control of the Native American associated funerary object. The National Park Service is not responsible for the determinations in this notice.

Consultation

A detailed assessment of the associated funerary object was made by the Gilcrease Museum professional staff in consultation with representatives of Muskogean Speaking Tribes that include the Seminole Tribe of Florida (previously listed as Seminole Tribe of Florida (Dania, Big Cypress, Brighton, Hollywood, & Tampa Reservations)); The Chickasaw Nation; The Choctaw Nation of Oklahoma; The Muscogee (Creek) Nation; and The Seminole Nation of Oklahoma (hereafter referred to as “The Tribes”).

History and Description of the Associated Funerary Object

In 1929, one associated funerary object was removed from the Moundville site in Greene County, AL, by William L. Holton, a curator of the Alabama Museum of Natural History, University of Alabama. Holton removed this item from a burial and traded this item with Dr. P.F. Titterington of St. Louis, Missouri in July 1930. Harry J. Lemley, a judge and prominent collector from Arkansas, acquired the item from Titterington between 1930 and 1955. Thomas Gilcrease purchased Harry J. Lemley's entire collection, including this item, in 1955. Thomas Gilcrease transferred his collection to the City of Tulsa in 1955 and 1963-64, forming the Gilcrease Museum. The associated funerary object is a stone palette (catalog number 61.1872).

This item and the site from which it was removed are culturally affiliated to the Muskogean Speaking Tribes that include the Seminole Tribe of Florida, The Choctaw Nation of Oklahoma, The Chickasaw Nation, The Muscogee (Creek) Nation, and The Seminole Nation of Oklahoma. The Tribal communities in and around the site of Moundville have clear connections and continuities with Muskogean Speaking Tribes, as seen in the archeological and anthropological records, and in oral traditions.

Determinations Made by the Gilcrease Museum

Officials of the Gilcrease Museum have determined that:

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American associated funerary object and The Tribes.

Additional Requestors and Disposition

Lineal descendants or representatives of any Indian Tribe or Native Hawaiian organization not identified in this notice that wish to request transfer of control of this associated funerary object should submit a written request with information in support of the request to Laura Bryant, Gilcrease Museum, 800 S Tucker Drive, Tulsa, OK 74104, telephone (918) 596-2747, email laura-bryant@utulsa.edu, by June 30, 2022. After that date, if no additional requestors have come forward, transfer of control of the associated funerary object to The Tribes may proceed.

The Gilcrease Museum is responsible for notifying The Tribes that this notice has been published.

Dated: May 18, 2022.
Melanie O'Brien,
Manager, National NAGPRA Program.

[FR Doc. 2022-11632 Filed 5-27-22; 8:45 am]

BILLING CODE 4312-52-P